DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on a proposed three-year extension and revision to Form EIA-1605, The EIA also proposes to discontinue the Form EIA-1605EZ (short form).

DATES: Comments must be submitted by September 25, 2006, to the addresses listed below.

ADDRESSES: Send all comments to the attention of Stephen E. Calopedis. To ensure receipt of the comments by the due date, submission by e-mail (stephen.calopedis@eia.doe.gov) or fax (202-586-3045) is recommended. Comments submitted by mail should be sent to Stephen E. Calopedis, U.S. Department of Energy, Energy Information Administration, EI-81, 1000 Independence Avenue, SW., Washington, DC 20585. Questions on this action should be directed to Stephen E. Calopedis at 202-586-1156 or stephen.calopedis@eia.doe.gov.

FOR FURTHER INFORMATION CONTACT: Requests for additional information or copies of the revised reporting form and instructions should be directed to Stephen E. Calopedis at 202-586-1156 or stephen.calopedis@eia.doe.gov. The revised version of the Form EIA-1605, “Voluntary Reporting of Greenhouse Gases,” and instructions, can also be downloaded from the Program's Web site at http://www.eia.doe.gov/oiaf/1605/Forms.html.

SUPPLEMENTARY INFORMATION:

I. Background

II. Current Actions

III. Request for Comments

I. Background

Voluntary Reporting of Greenhouse Gases Program collections are conducted pursuant to Section 1605(b) of the Energy Policy Act of 1992 (Pub. L. 102-486, 42 U.S.C. 13385) under General Guidelines issued by the DOE's Office of Policy and International Affairs. The EIA-1605 and EIA-1605EZ forms are designed to collect voluntarily reported data on greenhouse gas emissions, achieved reductions of these emissions, and increased carbon fixation, as well as information on commitments to reduce greenhouse gas emissions and sequester carbon in future years. A summary of the results of the Voluntary Reporting of Greenhouse Gases Program appear in the Program's annual report titled Voluntary Reporting of Greenhouse Gases (http://www.eia.doe.gov/oiaf/1605/vrrpt/). Additionally, EIA produces and makes publicly available, a “public-use” database containing all the non-confidential information reported to EIA's Voluntary Reporting of Greenhouse Gases Program on the Forms EIA-1605 and EIA-1605EZ (http://www.eia.doe.gov/oiaf/1605/databases.html).

The EIA, as part of its effort to comply with the Paperwork Reduction Act of 1995 (Pub. L. 104-13, 44 U.S.C. Chapter 35), provides the general public and other Federal agencies with opportunities to comment on collections of information conducted by or in conjunction with the EIA. Any comments received help the EIA to prepare data requests that maximize the utility of the information collected and to assess the impact of collection requirements on the public. Also, the EIA will later seek approval by the Office of Management and Budget (OMB) under section 3507(a) of the Paperwork Reduction Act of 1995.

II. Current Actions

In response to the finalization and issuance of the revised Guidelines for reporting to the 1605b Voluntary Reporting of Greenhouse Gases Program (April 21, 2006; http://www.eia.doe.gov/oiaf/1605/Gen%20Guidelines%20final%20rule%20Apr21.pdf), the EIA has developed and plans to issue revised reporting forms and instructions for reporting under the revised Program Guidelines. The first year of reporting to the Program under the revised Guidelines is expected to occur in the Summer of 2007, for 2006 data.

EIA will be requesting OMB approval for revisions to Form EIA-1605 and for discontinuation of Form EIA-1605EZ (short form). The revisions to Form EIA-1605 are summarized below.

On the existing Schedule I, “Entity Identification and Certification,” the focus was limited to asking for information to identify the reporting entity, the type of reporting entity, the geographic scope of activities, the Standard Industrial Classification Code (SIC), the applicability of confidentiality, and the reporting entities attesting to/certifying the accuracy of the information reported. The revised Schedule I, “Entity Information,” has been expanded to include an inventory of emissions and emissions reductions, carbon flux, and emissions offsets, all calculated at the entity level. In addition, Schedule I includes the collection of NAICS codes (instead of SIC codes), an expanded list of entity type categories, information on any changes in entity statement from previous reporting years, and other reporter characteristics, such as base period, voluntary program affiliation, and entity organization.

On the existing Schedule II, “Project-level Emissions and Reductions,” the reporting entity was asked to provide information on individual projects that had achieved reductions in greenhouse gas emissions and/or have sequestered carbon. The revised Schedule II, “Subentity Information,” collects data that are similar to data collected on Schedule I of the revised Form EIA-1605, but on a subentity-level basis. Project-level or action-specific reductions can be registered under limited circumstances using the calculation methods specified in the Technical Guidelines and embodied in Addendum A of the revised form.

On the existing Schedule III, “Entity-level Emissions and Reductions,” the reporting entity was able to establish a record of its greenhouse gas emissions, emissions reductions and carbon sequestration achievements. Schedule III was used to report information such as actual emissions for the baseline period of 1987 to 1990, emissions for subsequent years (1991 to the present), emission reductions for the years 1991 to the present, and causes for changes in the levels of emissions and/or emissions reductions, all at the entity-level. The collection of entity-level emissions and reductions has been incorporated into Schedule I in the revised form. The revised Schedule III, “Emissions Reductions Summary,” focuses on summarizing the entity-level emissions reductions, based on information reported by the entity on Schedule I or Schedule II. Reporters may subdivide the entity into two or more subentities to permit the use of different calculation methods for estimating reductions.

On the existing Schedule IV, “Commitments to Reduce Greenhouse Gases,” the reporting entity was provided the opportunity to report on its commitments made, under a variety of governmental initiatives, to reduce greenhouse gases. The information gathered included descriptions of the commitment, the type of reference case used to calculate emissions reductions, the voluntary program the reduction activity was affiliated with (if applicable), as well as information on financial commitments made to support activities designed to reduce greenhouse gas emissions. Collection of commitment information has been discontinued in the revised form.

The revised Schedule IV, “Verification and Certification,” provides an opportunity for reporters to document optional independent, “third-party” verification of the information reported on the Form EIA-1605 and expands the certification statement that all reporters must sign. Third-party verification was not included on the existing EIA-1605 form. Schedule IV of the revised form consists of two sections. The first section titled, “Independent Verification,” collects information on the identity and qualifications of the independent verifier and verification approach and includes the independent verifier's certification. The second section titled “Reporter Self-Certification,” is a self-certification, including the reporter's declaration that the form meets all three requirements for “reported” reductions, and in the case of “registered” reductions, five additional requirements.

The form includes the following addenda for portions of the form that will not be required for all reporters: Addendum A, Emission Reduction Methods; Addendum B, Subentity Emissions Inventory; and Addendum C, Country-specific Factors Used to Estimate Emissions from Foreign Sources.

Please refer to the revised version of the form and instructions for more information about the purpose, who may report, when to report, where to submit, the elements to be reported, instructions for reporting, provisions for confidentiality, and uses (including possible nonstatistical uses) of the information (http://www.eia.doe.gov/oiaf/1605/Forms.html). For instructions on obtaining materials, see the FOR FURTHER INFORMATION CONTACT section.

III. Request for Comments

Prospective respondents and other interested parties should comment on the actions discussed in item II. The following issues are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to range between 32 hours to 64 hours per response on Form EIA-1605, depending on the type of report and level of detail the respondent chooses to report at, or an average of 48 hours. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, July 17, 2006.
Jay H. Casselberry,
Agency Clearance Officer, Energy Information Administration.

[FR Doc. E6-12039 Filed 7-26-06; 8:45 am]

BILLING CODE 6450-01-P